ENVIRONMENTAL PROTECTION AGENCY

[ER-FRL-9015-4]

Environmental Impact Statements; Notice of Availability

Responsible Agency: Office of Federal Activities, General Information (202) 564-7146 or http://www.epa.gov/compliance/nepa/

Weekly receipt of Environmental Impact Statements

Filed 06/02/2014 Through 06/06/2014

Pursuant to 40 CFR 1506.9.

Notice: Section 309(a) of the Clean Air Act requires that EPA make public its comments on EISs issued by other Federal agencies. EPA's comment letters on EISs are available at: http://www.epa.gov/compliance/nepa/eisdata.html

EIS No. 20140167, Final EIS, USACE, HI, Honolulu Seawater Air Conditioning Project, Review Period Ends: 07/14/2014, Contact: Ryan Winn 808-835-4309

EIS No. 20140168, Final EIS, NPS, FL, Fort Matanzas National Monument Final General Management Plan, Review Period Ends: 07/14/2014, Contact: Gordon Wilson 904-829-6506 Ext. 221

EIS No. 20140169, Final EIS, FHWA, DC, Virginia Avenue Tunnel Reconstruction, Review Period Ends: 07/14/2014, Contact: Michael Hicks 202-219-3513

EIS No. 20140170, Final EIS, USFS, NM, Gila National Forest Travel Management Rule Implementation, Review Period Ends: 07/28/2014, Contact: Lisa Mizuno 575-388-8267

Amended Notices

EIS No. 20140164, Final Supplement, FHWA, NCDOT, NC, Monroe Connector/Bypass, Contact: George Hoops 919-747-7022

Revision to the FR Notice Published 06/06/2014; Correction to Contact Phone Number should be 919-747-7022.

Under MAP-21 section 1319, FHWA has issued a single FSEIS and ROD. Therefore, the 30-day wait/review period under NEPA does not apply to this action.

Dated: June 10, 2014.
Cliff Rader,
Director, NEPA Compliance Division, Office of Federal Activities.

[FR Doc. 2014-13899 Filed 6-12-14; 8:45 am]

BILLING CODE 6560-50-P